DEPARTMENT OF DEFENSE

Department of the Air Force

Fourth Supplemental Record of Decision (FSROD) for the Disposal and Reuse of Grissom Air Force Base (AFB), Indiana

On July 14, 2000, the Air Force issued the Fourth Supplemental Record of Decision (FSROD) for the Disposal and Reuse of Grissom AFB, Indiana. The decision included in this FSROD has been made in consideration of, but not limited to, the information contained in the Final Environmental Impact Statement (FEIS) for the disposal and reuse of Grissom AFB, filed with the Environmental Protection Agency and made available to the public on September 6, 1994.

Grissom AFB closed on September 30, 1994, pursuant to the Defense Base Closure and Realignment Act of 1990 (10 U.S.C. 2687 note) and the recommendations of the Defense Base Closure and Realignment Commission. The FEIS analyzed potential environmental impacts of the Air Force's disposal options by portraying a variety of potential land uses to cover a range of reasonably foreseeable future uses of the property and facilities by others.

The Air Force issued a ROD on October 11, 1994 and Supplemental RODs on June 30, 1997, April 14, 1998, and August 13, 1999, that documented decisions regarding the intended disposal of Government-owned property at the base. Since the issuance of the ROD and the Supplemental RODs, changing governmental priorities and economic situations have required a modification to the following Air Force disposal decisions: Parcel 01 (Electrical Distribution System, including approximately 1 acre of land) and 06 (Gas Distribution System) are made available for disposal by Economic Disposal Conveyance (EDC) rather than negotiated sale to utility companies.

The implementation of these conversion activities and associated environmental mitigation measures will proceed with minimal adverse impact to the environment. This action conforms with applicable Federal, State and local statutes and regulations, and all reasonable and practical efforts have been incorporated to minimize harm to the local public and the environment. The analyses contained in the FEIS are still valid. Any questions regarding this matter may be directed to Mr. John J. Corradetti, Jr., Program Manager, Division A, at 703-696-5250. Correspondence should be sent to AFBCA/DA, 1700 North Moore Street, Suite 2300, Arlington, VA 22209-2802.

Janet A. Long,
Air Force Federal Register Liaison Officer.

[FR Doc. 00-19439 Filed 8-1-00; 8:45 am]

BILLING CODE 5001-05-U